DEPARTMENT OF AGRICULTURE

Animal and Plant Health Inspection Service

9 CFR Part 77

[Docket No. 04-065-2]

Tuberculosis; Reduction in Timeframe for Movement of Cattle and Bison From Modified Accredited and Accreditation Preparatory States or Zones Without an Individual Tuberculin Test

AGENCY: Animal and Plant Health Inspection Service, USDA.

ACTION: Affirmation of interim rule as final rule.

SUMMARY: We are adopting as a final rule, without change, an interim rule that amended the tuberculosis regulations to reduce, from 6 months to 60 days, the period following a whole herd test during which animals may be moved interstate from a modified accredited State or zone or from an accreditation preparatory State or zone without an individual tuberculin test. The interim rule was necessary due to our determination that the 6-month period during which individual tuberculin tests have not been required is too long given the risks of exposure to tuberculosis that exist in modified accredited and accreditation preparatory States or zones, especially those States or zones where there are wildlife populations affected with tuberculosis.

DATES: Effective on March 20, 2006, we are adopting as a final rule the interim rule that became effective on May 18, 2005.

FOR FURTHER INFORMATION CONTACT: Dr. Michael Dutcher, Senior Staff Veterinarian, National Tuberculosis Eradication Program, Eradication and Surveillance Team, National Center for Animal Health Programs, VS, APHIS, 4700 River Road Unit 43, Riverdale, MD, 20737-1231, (301) 734-5467.

SUPPLEMENTARY INFORMATION:

Background

Bovine tuberculosis is a contagious, infectious, and communicable granulomatous disease caused by Mycobacterium bovis. It affects cattle, bison, deer, elk, goats, and other species, including humans. Bovine tuberculosis in infected animals and humans manifests itself in lesions of the lung, bone, and other body parts, causes weight loss and general debilitation, and can be fatal.

In an interim rule effective May 18, 2005, and published in the Federal Register on May 24, 2005 (70 FR 29579-29582, Docket No. 04-065-1), we amended the bovine tuberculosis regulations in 9 CFR part 77 by reducing from 6 months to 60 days the period following a whole herd test during which cattle and bison may be moved interstate from a modified accredited State or zone or an accreditation preparatory State or zone without an individual tuberculin test.

Comments on the interim rule were required to be received on or before July 25, 2005. We received two comments by that date. The comments were from a State agricultural agency, which fully supported the rule, and from a private citizen who stated that the timeframe should be reduced to 10 days, but did not provide any explanation or justification for this suggested reduction.

As we discussed in the interim rule, we believe reducing the period from 6 months to 60 days will be sufficient to lower the potential risk of movement of infected animals and decrease the likelihood of tuberculosis transmission. Therefore, for the reasons given in the interim rule and in this document, we are adopting the interim rule as a final rule without change.

This action also affirms the information contained in the interim rule concerning Executive Order 12866 and the Regulatory Flexibility Act, Executive Orders 12372 and 12988, and the Paperwork Reduction Act.

Further, this action has been determined to be not significant for the purposes of Executive Order 12866 and, therefore, has not been reviewed by the Office of Management and Budget.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 70 FR 29579-29582 on May 24, 2005.

Done in Washington, DC, this 14th day of March 2006.
Kevin Shea,
Acting Administrator, Animal and Plant Health Inspection Service.

[FR Doc. 06-2627 Filed 3-17-06; 8:45 am]

BILLING CODE 3410-34-P